DEPARTMENT OF THE INTERIOR

National Park Service

[NPS-WASO-NAGPRA-NPS0036761; PPWOCRADN0-PCU00RP14.R50000]

Notice of Intent To Repatriate Cultural Items: California State University, Sacramento, Sacramento, CA

AGENCY: National Park Service, Interior.

ACTION: Notice.

SUMMARY: In accordance with the Native American Graves Protection and Repatriation Act (NAGPRA), the California State University, Sacramento intends to repatriate certain cultural items that meet the definition of objects of cultural patrimony and that have a cultural affiliation with the Indian Tribes or Native Hawaiian organizations in this notice. The cultural items were removed from Placer and Yuba Counties, CA.

DATES: Repatriation of the cultural items in this notice may occur on or after November 22, 2023.

ADDRESSES: Dr. Dianne Hyson, Dean of the College of Social Sciences and Interdisciplinary Studies, California State University, Sacramento, 6000 J Street, Sacramento, CA 95819, telephone (916) 278-6504, email dhyson@csus.edu.

SUPPLEMENTARY INFORMATION: This notice is published as part of the National Park Service's administrative responsibilities under NAGPRA. The determinations in this notice are the sole responsibility of the California State University, Sacramento. The National Park Service is not responsible for the determinations in this notice. Additional information on the determinations in this notice, including the results of consultation, can be found in the summary or related records held by the California State University, Sacramento.

Description

During the 1960s-1980's, California State University, Sacramento students and faculty surveyed and investigated sites along creeks and ravines in Placer County, CA, ahead of several development projects (CA-PLA-47, PLA-63, PLA-64, PLA-66, PLA-67, PLA-69, PLA-70, PLA-71, PLA-72, PLA-73, PLA-74, PLA-75, PLA-76, PLA-77, PLA-78, PLA-80, PLA-81, PLA-83, PLA-90, PLA-92, PLA-93, PLA-94, PLA-95, PLA-99, PLA-105, PLA-106, PLA-107/H, PLA-225, PLA-271/H, PLA-663/H, and four sites without a designated name or trinomial (31-109, 31-60, 31-108, 31-78)). As a result, 13 cultural items were collected from several of the sites. The 13 objects of cultural patrimony consist of the following individual lots: flaked stones; groundstones; unmodified stones; thermally-altered rocks; modified stones; modified shells; modified bones; historic materials; faunal remains; floral remains; baked clay objects; soil samples; and uncatalogued materials.

At an unknown date, 10 cultural items were collected from CA-PLA-292, PLA-293, and another, unknown location (31-62) by an individual who subsequently donated them to California State University, Sacramento, most likely in the 1960s. The 10 objects of cultural patrimony consist of the following individual lots: flaked stones; groundstones; unmodified stones; modified stones; modified shells; faunal remains; floral remains; historic materials; soil samples; and uncatalogued materials.

In the 1960s and 1970s, American River Junior College (ARJC) conducted investigations at several sites in Placer and Yuba Counties (CA-PLA-2907, CA-PLA-2908, possibly PLA-38, and CA-YUB-05), which resulted in the collection of 12 cultural items. In 1977, the collections from these sites were transferred to California State University, Sacramento along with other ARJC collections. The 12 objects of cultural patrimony consist of the following individual lots: flaked stones; groundstones; modified bones; modified shells; modified stones; thermally-altered rocks; unmodified stones; baked clay objects; floral remains; faunal remains; historic materials; and uncatalogued materials.

At an unknown date, one cultural item was collected from a quarry site near Bowman, CA, and was donated to California State University, Sacramento. The object of cultural patrimony is one lot consisting of uncatalogued materials.

Sometime during the 1920s and 1930s, Anthony Zallio, a private collector, collected two cultural items from sites in Placer County, CA. In 1951, Zallio's collection was posthumously donated to the Department of Anthropology at Sacramento State College, CA (now California State University, Sacramento). The two objects of cultural patrimony are a flaked stone and a modified stone.

In the 1970s, a cultural item was donated to the Anthropology Museum at California State University, Sacramento that was said to have been found on the North Fork of the American River, possibly near CA-PLA-34. The one object of cultural patrimony is a steatite pipe.

In the 1970s, cultural items were collected from an unknown location near Bowman, CA, and at an unknown date, they were donated to California State University, Sacramento. The five objects of cultural patrimony consist of the following individual lots: flaked stones; modified shells; faunal remains; historic materials; and uncatalogued materials.

In 1990, one cultural item was collected at historic Virginiatown, in Placer County, CA, during a California State University, Sacramento-sponsored field school. The object of cultural patrimony is one lot consisting of archaeologically recovered Native American objects.

At an unknown date, two cultural items were removed from CA-PLA-36 in Placer County, CA. The circumstances surrounding their recovery and curation at California State University, Sacramento are not known. The two objects of cultural patrimony are one lot consisting of flaked stones and one lot consisting of groundstones.

At an unknown date, five cultural items were removed from CA-PLA-2879, in Placer County, CA. The circumstances surrounding their recovery and curation at California State University, Sacramento are not known. The five objects of cultural patrimony consist of the following individual lots: worked shells; faunal remains; flaked stones; unmodified stones; and historic materials.

At an unknown date, one cultural item was collected from an unknown site in Yuba County, CA, by Charles McKee. Subsequently, this item was donated to California State University, Sacramento by his estate. The object of cultural patrimony is a modified stone.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, kinship, linguistic, oral traditional, and expert opinion.

Determinations

Pursuant to NAGPRA and its implementing regulations, and after consultation with the appropriate Indian Tribes and Native Hawaiian organizations, the California State University, Sacramento has determined that:

• The 53 cultural items described above have ongoing historical, traditional, or cultural importance central to the Native American group or culture itself, rather than property owned by an individual.

• There is a relationship of shared group identity that can be reasonably traced between the cultural items and the United Auburn Indian Community of the Auburn Rancheria of California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after November 22, 2023. If competing requests for repatriation are received, the California State University, Sacramento must determine the most appropriate requestor prior to repatriation. Requests for joint repatriation of the cultural items are considered a single request and not competing requests. The California State University, Sacramento is responsible for sending a copy of this notice to the Indian Tribe identified in this notice.

Authority: Native American Graves Protection and Repatriation Act, 25 U.S.C. 3003, and the implementing regulations, 43 CFR 10.8, 10.10, and 10.14.

Dated: October 11, 2023.
Melanie O'Brien,
Manager, National NAGPRA Program.

[FR Doc. 2023-23283 Filed 10-20-23; 8:45 am]

BILLING CODE 4312-52-P